SMALL BUSINESS ADMINISTRATION

National Small Business Development Center Advisory Board; Meeting

AGENCY: Small Business Administration.

ACTION: Notice of open Federal Advisory Committee meeting.

SUMMARY: The SBA is issuing this notice to announce the date, time and agenda for a meeting of the National Small Business Development Center Advisory Board. The meeting will be open to the public; however, advance notice of attendance is required.

DATES: Tuesday, November 15, 2022, at 4:00 p.m. EST.

ADDRESSES: Meeting will be held via Microsoft Teams.

FOR FURTHER INFORMATION CONTACT: Rachel Karton, Office of Small Business Development Centers, U.S. Small Business Administration, 409 Third Street SW, Washington, DC 20416; Rachel.newman-karton@sba.gov; 202-619-1816.

If anyone wishes to be a listening participant or would like to request accommodations, please contact Rachel Karton at the information above.

SUPPLEMENTARY INFORMATION: Pursuant to section l0(a) of the Federal Advisory Committee Act (5 U.S.C. Appendix 2), the SBA announces the meetings of the National SBDC Advisory Board. This Board provides advice and counsel to the SBA Administrator and Associate Administrator for Small Business Development Centers.

Purpose

The purpose of the meeting is to discuss the following pertaining to the SBDC Program:

• Annual Plan

• Outreach and Engagement with the SBDC State Directors

Additionally, SBA will be seeking three volunteers from the Advisory Board to participate as judges for the National Small Business Week Small Business Development Centers Excellence and Innovation Award.

Andrienne Johnson,
Committee Management Officer.

[FR Doc. 2022-23163 Filed 10-24-22; 8:45 am]

BILLING CODE 8026-09-P